DEPARTMENT OF THE INTERIOR

Bureau of Land Management

[COCO0106240032; COC-080958]

Notice of Proposed Withdrawal and Opportunity for Public Meeting for the Arapaho National Wildlife Refuge, Colorado

AGENCY: Bureau of Land Management, Interior.

ACTION: Notice of proposed withdrawal.

SUMMARY: On behalf of the United States Fish and Wildlife Service (FWS) and subject to valid existing rights, the Secretary of the Interior proposes to withdraw 4,792.54 acres of public lands from settlement, sale, location, or entry under the general land laws, including location and entry under the United States mining laws, and from leasing under the mineral and geothermal leasing laws, and reserve them for any term up to an indefinite period as part of the Arapaho National Wildlife Refuge (NWR) located in Jackson County, Colorado. Publication of this notice temporarily segregates the lands for up to 2 years and announces to the public an opportunity to comment and request a public meeting on the proposed withdrawal.

DATES: Comments and requests for a public meeting must be received by September 12, 2024.

ADDRESSES: All comments and meeting requests should be sent to the Bureau of Land Management (BLM) Colorado State Office, Attn: Arapaho NWR Withdrawal, P.O. Box 151029, Lakewood, CO 80215; faxed to (303) 239-3933; or sent by email to blm_co_statedirector@blm.gov. The BLM will not consider comments expressed via telephone calls.

FOR FURTHER INFORMATION CONTACT: Jennifer Jardine, Realty Specialist, BLM Colorado State Office, telephone: (970) 385-1224, email at jjardine@blm.gov; or you may contact the BLM office at the address noted above. Individuals in the United States who are deaf, deafblind, hard of hearing, or have a speech disability may dial 711 (TTY, TDD, or TeleBraille) to access telecommunications relay services. Individuals outside the United States should use the relay services offered within their country to make international calls to the point-of-contact in the United States.

SUPPLEMENTARY INFORMATION: The applicant is the FWS, and its petition/application requests that the Secretary of the Interior withdraw the following described public lands from settlement, sale, location or entry under the general land laws, including location and entry under the United States mining laws, and from leasing under the mineral and geothermal leasing laws, subject to valid existing rights, to protect refuge resources and reserve them for wildlife refuge purposes for any term up to an indefinite term in accordance with the provisions of the Game Range Act, 16 U.S.C. 668dd(a)(6) and section 204 of the Federal Land Policy and Management Act (FLPMA).

Sixth Principal Meridian, Colorado

T. 7 N., R. 79 W.,

Sec. 4, SW¼SW¼, that portion lying southwest of a diagonal line extending from the northwest corner to the southeast corner;

Sec. 6, lot 1, SE¼NE¼, and E½SE¼;

Sec. 7, E½, E½NW¼, and E½SW¼;

Sec. 9, SE¼NW¼;

Sec. 14, SW¼SW¼, that portion lying southwest of a diagonal line extending from the northwest comer to the southeast corner;

Sec. 15, SW¼NE¼, that portion lying southwest of a diagonal line extending from the northwest corner to the southeast corner;

Sec. 17, SW¼NW¼ and NE¼SW¼;

Sec. 19, SE¼NE¼.

T. 8 N., R. 79 W.,

Sec. 3, SW¼SW¼;

Sec. 4, SW¼NE¼ and N½SE¼;

Sec. 5, lot 4;

Sec. 6, lot 7, that portion lying southeast of a diagonal line extending from the northeast corner to the southwest corner, the exact boundary being the existing fence marking the Arapaho National Wildlife Refuge;

Sec. 7, SW¼NE¼, SE¼NW¼, SE¼SW¼, NE¼SE¼, and S½SE¼;

Sec. 8, E½NW¼ and S½;

Sec. 9, S½;

Sec. 17;

Sec. 18, NE¼, E½NW¼, NE¼SW¼, N½SE¼, and SE¼SE¼;

Sec. 19, lots 2 and 3, NE¼NE¼, S1/2NE¼, SE¼NW¼, NE¼SW¼, and N1/2SE¼;

Sec. 20, NE¼NE¼, W½NE¼, and NW¼;

Sec. 21, NW¼SE¼, that portion lying northwest of a diagonal line extending from the northeast corner to the southwest corner, the exact boundary being the existing fence marking the Arapaho National Wildlife Refuge;

Sec. 30, E½NE¼ and E½SE¼, those portions lying east of the east right-of-way boundary of State Highway 125;

Sec. 31, E½NE¼, that portion lying east of the east right-of-way boundary of State Highway 125, and E½SW¼;

Sec. 33. W½NW¼ and NW¼SW¼.

T. 9 N., R. 79 W.

Sec. 32, W½NE¼, W½SE¼, and that portion of E½SW¼ lying east of the east right-of-way boundary of State Highway 125;

Sec. 33, SW¼SW¼.

T. 7 N., R. 80 W.,

Sec. 10, NE¼NE¼;

Sec. 11, N½NW¼;

Sec. 13, SW¼SW¼ and W½SE¼;

Sec. 14, NW¼NW¼;

sec. 15, NE¼NE¼.

T. 8 N., R. 80 W.,

Sec. 11, SW¼NE¼, N½SW¼, and SW¼SW¼, those portions lying southeast of a diagonal line extending from the northeast corner of the SW¼NE¼ to the southwest corner of the SW¼SW¼, the exact boundary being the existing fence marking the Arapaho National Wildlife Refuge.

Sec. 12, S½NE¼;

Sec. 15, NE¼NE¼ and SE¼NW¼.

The areas described aggregate 4,792.54 acres.

The Secretary of the Interior approved the FWS's petition. Therefore, the petition/application constitutes a withdrawal proposal of the Secretary of the Interior (43 CFR 2310.1-3(e)).

The use of a right-of-way, interagency agreement, or cooperative agreement would not provide adequate protection of the wildlife refuge.

No additional water rights are needed to fulfill the purpose of this new withdrawal.

There are no suitable alternative sites since these lands are located within the Arapaho NWR.

Before including your address, phone number, email address, or other personal identifying information in your comment, you should be aware that your entire comment, including your personal identifying information, may be made publicly available at any time. While you can ask us in your comment to withhold your personal identifying information from public review, we cannot guarantee that we will be able to do so.

Notice is hereby given that an opportunity for a public meeting is afforded in connection with the proposed withdrawal. All interested persons who desire a public meeting for the purpose of being heard on the proposed withdrawal must submit a written request to the BLM Colorado State Director at the address listed above no later than September 12, 2024. If the authorized officer determines that a public meeting will be held, a notice of the time and place will be published in the Federal Register and a local newspaper at least 30 days before the scheduled date of the meeting.

For a period until June 14, 2026 the lands described above will be segregated from settlement, sale, location, or entry under the general land laws, including location and entry under the United States mining laws, and from leasing under the mineral and geothermal leasing laws, unless the application is denied or canceled, or the withdrawal is approved prior to that date.

This application will be processed in accordance with the regulations set-forth in 43 CFR part 2300.

(Authority: 43 U.S.C. 1714)

Douglas J. Vilsack,
Colorado State Director.

[FR Doc. 2024-13158 Filed 6-13-24; 8:45 am]

BILLING CODE 4331-15-P